DEPARTMENT OF COMMERCE

Foreign-Trade Zones Board

[B-19-2017]

Foreign-Trade Zone (FTZ) 7—Mayaguez, Puerto Rico; Authorization of Production Activity; MSD International GMBH (Puerto Rico Branch) LLC (Pharmaceuticals); Las Piedras, Puerto Rico

On March 28, 2017, MSD International GMBH (Puerto Rico Branch) LLC submitted a notification of proposed production activity to the FTZ Board within Subzone 7G, in Las Piedras, Puerto Rico.

The notification was processed in accordance with the regulations of the FTZ Board (15 CFR part 400), including notice in the Federal Register inviting public comment (82 FR 16159, April 3, 2017). On July 26, 2017, the applicant was notified of the FTZ Board's decision that no further review of the activity is warranted at this time. The production activity described in the notification was authorized, subject to the FTZ Act and the FTZ Board's regulations, including Section 400.14.

Dated: September 6, 2017.
Andrew McGilvray,
Executive Secretary.

[FR Doc. 2017-19298 Filed 9-11-17; 8:45 am]

BILLING CODE 3510-DS-P